DEPARTMENT OF HOUSING AND URBAN DEVELOPMENT

[Docket No. FR-5997-N-50]

30-Day Notice of Proposed Information Collection: Requirements for Designating Housing Projects

AGENCY: Office of the Chief Information Officer, HUD.

ACTION: Notice.

SUMMARY: HUD submitted the proposed information collection requirement described below to the Office of Management and Budget (OMB) for review, in accordance with the Paperwork Reduction Act. The purpose of this notice is to allow for 30 days of public comment.

DATES: Comments Due Date: October 6, 2017.

ADDRESSES: Interested persons are invited to submit comments regarding this proposal. Comments should refer to the proposal by name and/or OMB Control Number and should be sent to: HUD Desk Officer, Office of Management and Budget, New Executive Office Building, Washington, DC 20503; fax: 202-395-5806, Email: OIRA_Submission@omb.eop.gov.

FOR FURTHER INFORMATION CONTACT: Colette Pollard, Reports Management Officer, QMAC, Department of Housing and Urban Development, 451 7th Street SW., Washington, DC 20410; email Colette.Pollard@hud.gov, or telephone 202-402-3400. This is not a toll-free number. Person with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on June 19, 2017 at 82 FR 27859.

A. Overview of Information Collection

Title of Information Collection: Requirements for Designating Housing Projects.

OMB Approval Number: 2577-0192.

Type of Request: Revision of a previously approved collection.

Form Number: None.

Description of the Need for the Information and Proposed Use: The information collection burden associated with designated housing is required by statute. Section 10 of the Housing Opportunity and Extension Act of 1996 modified Section 7 of the U.S. Housing Act of 1937 to require Public Housing Agencies (PHAs) to submit a plan for designation for HUD approval before a project(s) can be designated as either elderly only, disabled only, or elderly and disabled. In this plan, PHAs must document why the designation is needed and provide the following information:

1. Description of the designated housing plan;

2. Justification for the designation;

3. Availability of alternative housing resources for the non-designated population(s);

4. Impact on the availability of accessible housing;

5. A statement that existing tenants in good standing will not be evicted;

6. A statement of the resources that will be made available if the PHA offers voluntary relocation benefits; and

7. Information describing how the DHP is consistent with any outstanding court orders, lawsuits, investigations, Voluntary Compliance Agreements (VCAs), or Letters of Finding.

Respondents (i.e. affected public): State, or Local Government.

Estimated Number of Respondents: 39.

Estimated Number of Responses: 1.

Frequency of Response: On occasion.

Average Hours per Response: 15 hours.

Total Estimated Burdens: 585 hours.

The previous estimation of 375 annual burden hours has been increased to 585. This change is based on the number of Plans submitted in Calendar Year 2016, and the expectation that the number of respondents will continue to increase based on the upward trend in senior demographics and the increased use of Low-Income Housing Tax Credits (LIHTC) to finance mixed developments that include senior units by Public Housing Agencies (PHAs).

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond: Including through the use of appropriate automated collection techniques or other forms of information technology, e.g., permitting electronic submission of responses.

HUD encourages interested parties to submit comment in response to these questions.

Authority: Section 3507 of the Paperwork Reduction Act of 1995, 44 U.S.C. Chapter 35.

Dated: August 30, 2017.
Colette Pollard,
Department Reports Management Officer, Office of the Chief Information Officer.

[FR Doc. 2017-18850 Filed 9-5-17; 8:45 am]

BILLING CODE 4210-67-P